DEPARTMENT OF LABOR

Employment and Training Administration

[TA-W-85,293; TA-W-85,293A]

Microsemi Corporation, Including On-Site Leased Workers From Duran Hcp, Allentown, Pennsylvania, Microsemi Corporation, Including On-Site Leased Workers From Duran Human Capital, Superior Group, and Clearpath, San Jose, California; Notice of Revised Determination on Reconsideration

On October 10, 2014, the Department of Labor (Department) issued an Affirmative Determination Regarding Application for Reconsideration applicable to workers and former workers of Microsemi Corporation, including on-site leased workers from Duran HCP, Allentown, Pennsylvania (TA-W-85,293). The workers are engaged in activities related to the production of field-programmable gate array (FPGA) products and related software (including design and testing of these products).

At the request of the subject firm, the Department also investigated an affiliated facility in San Jose, California (TA-W-85,293A) during the reconsideration investigation. Workers at the San Jose, California facility are also engaged in activities related to the production of FPGA products and related software (including design and testing of these products).

The worker group at the San Jose, California facility includes on-site leased workers from Duran Human Capital, Superior Group, and ClearPath.

Based on a careful review of previously-submitted information and additional information obtained during the reconsideration investigation, the Department determines that the worker groups at the Allentown, Pennsylvania and San Jose, California facilities have met the eligibility criteria set forth in the Trade Act of 1974, as amended.

Section 222(a)(1) has been met because a significant number or proportion of the workers in both the Allentown, Pennsylvania and San Jose, California facilities of the subject firm have become totally or partially separated, or are threatened to become totally or partially separated.

Section 222(a)(2)(B) has been met because the employment decline is related to the subject firm's shift in production of FPGA products and related software to a foreign country and there has been or is likely to be an increase in imports of like or directly competitive articles.

In accordance with Section 246 the Trade Act of 1974, as amended (“Act”), 26 U.S.C. 2813, the Department herein presents the results of its investigation regarding certification of eligibility to apply for alternative trade adjustment assistance (ATAA) for older workers.

The group eligibility requirements for workers of a firm under Section 246 (a)(3)(A)(ii) of the Trade Act are satisfied if the following criteria are met:

(I) Whether a significant number of workers in the workers' firm are 50 years of age or older;

(II) Whether the workers in the workers' firm possess skills that are not easily transferable; and

(III)The competitive conditions within the workers' industry (i.e., conditions within the industry are adverse).

Section 246(a)(3)(A)(ii)(I) has been met because a significant number of workers in the workers' firm are 50 years of age or older. Section 246(a)(3)(A)(ii)(II) has been met because the workers in the workers' firm possess skills that are not easily transferrable. Section 246(a)(3)(A)(ii)(III) has been met because conditions within the workers' industry are adverse.

Conclusion

After careful review of previously-submitted information and additional information obtained during the reconsideration investigation, I determine that workers and former workers of Microsemi Corporation, Allentown, Pennsylvania (TA-W-85,293) and San Jose, California (TA-W-85,293A), meet the worker group certification criteria under Section 222(a) of the Act, 19 U.S.C. § 2272(a). In accordance with Section 223 of the Act, 19 U.S.C. § 2273, I make the following certification:

All workers of Microsemi Corporation, including on-site leased workers from Duran HCP, Allentown, Pennsylvania (TA-W-85,293) and Microsemi Corporation, including on-site leased workers from Duran Human Capital, Superior Group, and ClearPath, San Jose, California (TA-W-85,293A), who became totally or partially separated from employment on or after April 30, 2013 through two years from the date of this certification are eligible to apply for adjustment assistance under Section 223 of the Trade Act of 1974, and are eligible to apply for alternative trade adjustment assistance under Section 246 of the Trade Act of 1974.

Signed at Washington, DC, this 20th day of May, 2015.
Del Min Amy Chen,
Certifying Officer, Office of Trade Adjustment Assistance.

[FR Doc. 2015-15053 Filed 6-18-15; 8:45 am]

BILLING CODE 4510-FN-P